ENVIRONMENTAL PROTECTION AGENCY

[FRL-9922-16-OW]

Transfer of the California Safe Drinking Water Program From the California Department of Public Health to the California State Water Resources Control Board

AGENCY: Environmental Protection Agency (EPA).

ACTION: Notice.

SUMMARY: This document informs the public that the California Drinking Water Program has been transferred from the California Department of Public Health to the California State Water Resources Control Board.

DATES: This transfer became effective under California legislation on July 1, 2014, and was certified to the EPA by the California Attorney General on August 7, 2014.

FOR FURTHER INFORMATION CONTACT: Luis Garcia-Bakarich, Drinking Water Management Section (WTR3-1); Environmental Protection Agency, Region 9, 75 Hawthorne Street, San Francisco, California 94105; telephone number: (415) 972-3237; email address: garcia-bakarich.luis@epa.gov.

SUPPLEMENTARY INFORMATION: Notice is hereby given that the State of California enacted legislation (SB 861) that transfers to the California State Water Resources Control Board the authority, duties, powers, purposes, functions, responsibilities, and jurisdiction of the California Department of Public Health for the purposes of the administration of the California Safe Drinking Water Act programs effective July 1, 2014.

Background

The California Safe Drinking Water Act provides for the operation of public water systems and imposes various duties and responsibilities for the regulation and control of drinking water in the State of California including enforcing provisions of the federal Safe Drinking Water Act. The program transfer under SB 861 included all elements of the approved regulatory program as well as administration of the Drinking Water State Revolving Fund and the Environmental Laboratory Accreditation Program. An interagency agreement between the California State Water Resources Control Board and the California Department of Public Health was established for assuring the availability of drinking water laboratory services pursuant to 40 CFR 142.10 (b)(4).

40 CFR 142.17(a)(1) requires the State to notify the Administrator of the EPA of any State-initiated program changes and of any transfer of all or part of its program from the approved State agency to another State agency. On August 7, 2014, the California Attorney General certified to the EPA that the “[t]ransfer of California's authority to carry out the Safe Drinking Water Program from the California Department of Public Health to the California State Water Resources Control Board has been effectuated by SB 861 (Stats. 2014, ch. 35, §§ 62, 63, 127, 182).” The Attorney General's certification confirmed that the laws and regulations of California to carry out the Safe Drinking Water Program remain in effect, and further stated that “[i]n accordance with the Safe Drinking Water Act as amended, and 40 CFR 142.12(c)(1)(iii), the statutes and regulations of the State of California to carry out the Safe Drinking Water Act have been duly adopted and are enforceable under California law and the California State Constitution.”

The Attorney General's certification further confirmed that the California State Water Resources Control Board has regulatory and enforcement authority over drinking water standards and water systems under California Health and Safety Code section 116271.

The State of California was first granted primary enforcement responsibility for public water systems under section 1413 of the Safe Drinking Water Act on June 2, 1978 (43 FR 25180, June 9, 1978).

Dated: January 30, 2015.
Michael Montgomery,
Acting Director, Water Division, EPA Region 9.

[FR Doc. 2015-02926 Filed 2-11-15; 8:45 am]

BILLING CODE 6560-50-P